DEPARTMENT OF COMMERCE

International Trade Administration

[C-570-023]

Certain Uncoated Paper From the People's Republic of China: Final Results of the Expedited Five-Year Sunset Review of the Countervailing Duty Order

AGENCY: Enforcement and Compliance, International Trade Administration, Department of Commerce.

SUMMARY: As a result of this sunset review, the Department of Commerce (Commerce) finds that revoking the countervailing duty (CVD) order on certain uncoated paper (uncoated paper) from the People's Republic of China (China) would likely lead to continuation or recurrence of countervailable subsidies at the levels indicated in the “Final Results of Review” section of this notice.

DATES: Applicable June 7, 2021.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On March 3, 2016, Commerce published in the Federal Register the CVD Order on uncoated paper from China.¹ On February 1, 2021, Commerce published the notice of initiation of the first sunset review of the Order, pursuant to section 751(c) of the Tariff Act of 1930, as amended (the Act).² On February 12, 2021, Commerce received a notice of intent to participate from Domtar Corporation (Domtar), Finch Paper LLC (Finch Paper), and North Pacific Paper Company (NORPAC), within the deadline specified in 19 CFR 351.218(d)(1)(i).³ Domtar, Finch Paper, and NORPAC claimed interested party status under section 771(9)(C) of the Act, as domestic producers of uncoated paper in the United States. On February 16, 2021, Commerce also received a notice of intent to participate from Packaging Corporation of America (PCA) and United Steel, Paper and Forestry, Rubber, Manufacturing, Energy, Allied Industrial and Services Workers International Union (USW).⁴ PCA claimed interested party status under section 771(9)(C) of the Act and 19 CFR 351.102(b)(29)(v), as a domestic producer of uncoated paper in the United States, and USW claimed interested party status under section 771(9)(D) of the Act and 19 CFR 351.102(b)(29)(vi), as a certified union with workers engaged in the manufacture and production of the domestic like product in the United States.

¹ See Certain Uncoated Paper from Indonesia and the People's Republic of China: Amended Final Affirmative Countervailing Duty Determination and Countervailing Duty Order (Indonesia) and Countervailing Duty Order (People's Republic of China), 81 FR 11187 (Order).

² See Initiation of Five-Year (“Sunset”) Reviews, 86 FR 7709 (February 1, 2021).

³ See Domtar/Finch Paper/NORPAC's Letter, “Domestic Industry's Notice of Intent to Participate In Sunset Review,” dated February 12, 2021.

⁴ See PCA/USW's Letter, “Notice of Intent to Participate in the First Five-Year Review of the Countervailing Duty Order on Certain Uncoated Paper from the People's Republic of China,” dated February 16, 2021.

On March 1, 2021, Commerce received a substantive response from the domestic interested parties ⁵ within the 30-day deadline specified in 19 CFR 351.218(d)(3)(i).⁶ We received no substantive response from any other domestic or interested parties in this proceeding and no hearing was requested.

⁵ Collectively, Domtar, Finch Paper, NORPAC, PCA, and USW are referred to as the domestic interested parties.

⁶ See Domestic Interested Parties' Letter, “Domestic Interested Party Substantive Response to Notice of Initiation,” dated March 1, 2021.

On March 23, 2021, Commerce notified the U.S. International Trade Commission that it did not receive an adequate substantive response from respondent interested parties.⁷ As a result, pursuant to section 751(c)(3)(B) of the Act and 19 CFR 351.218(e)(1)(ii)(C)(2), Commerce conducted an expedited (120-day) sunset review of this Order.

⁷ See Commerce's Letter, “Sunset Reviews Initiated on February 1, 2021,” dated March 23, 2021.

Scope of the Order

The scope of the Order includes uncoated paper in sheet form; weighing at least 40 grams per square meter but not more than 150 grams per square meter; that either is a white paper with a GE brightness level ⁸ of 85 or higher or is a colored paper; whether or not surface-decorated, printed (except as described below), embossed, perforated, or punched; irrespective of the smoothness of the surface; and irrespective of dimensions (Certain Uncoated Paper).

⁸ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the Order is dispositive.⁹

⁹ For a full description of the scope of the order, see Memorandum, “Issues and Decision Memorandum for the Expedited First Sunset Review of the Countervailing Duty Order on Certain Uncoated Paper from the People's Republic of China,” dated concurrently with, and hereby adopted by, this notice (Issues and Decision Memorandum).

Analysis of Comments Received

All issues raised in this sunset review are addressed in the Issues and Decision Memorandum, which is hereby adopted by this notice. The Issues and Decision Memorandum is a public document and is on file electronically via Enforcement and Compliance's Antidumping and Countervailing Duty Centralized Electronic Service System (ACCESS). ACCESS is available to registered users at http://access.trade.gov. A list of topics discussed in the Issues and Decision Memorandum is included as an appendix to this notice. In addition, a complete version of the Issues and Decision Memorandum can be accessed directly at http://enforcement.trade.gov/frn.

Final Results of Sunset Review

Pursuant to sections 751(c)(1) and 752(b) of the Act, Commerce determines that revocation of the Order would be likely to lead to continuation or recurrence of countervailable subsidies at the following rates:

Manufacturers/producers/exporters | Net countervailable subsidy (percent)
Asia Symbol (Guangdong) Paper Co., Ltd. (AS Guangdong), Asia Symbol (Shandong) Pulp & Paper Co., Ltd. (AS Shandong), Asia Symbol (Guangdong) Omya Minerals Co., Ltd. (AS Omya), and Greenpoint Global Trading (Macao Commercial Offshore) Limited (Greenpoint) (collectively, Asia Symbol Companies) | 7.23
Shandong Sun Paper Industry Joint Stock Co., Ltd. (Shandong Sun Paper), and Sun Paper (Hong Kong) Co., Ltd. (Sun Paper HK) (collectively, Sun Paper Companies) | 176.75
UPM (China) Co. Ltd | 176.75
All Others | 7.23

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: June 1, 2021.
Christian Marsh,
Acting Assistant Secretary for Enforcement and Compliance.

Appendix

List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2021-11854 Filed 6-4-21; 8:45 am]

BILLING CODE 3510-DS-P